DEPARTMENT OF AGRICULTURE

Farm Service Agency

Conference Entitled “Conservation Reserve Program: Planting for the Future”

AGENCY: Farm Service Agency, USDA.

ACTION: Notice of a scientific conference on the Conservation Reserve Program.

SUMMARY: USDA's Farm Service Agency (FSA) and the Department of Interior's U.S. Geological Survey are hosting a national conference on the future of the Conservation Reserve Program (CRP)—the Nation's largest conservation program.

DATES: June 6-9, 2004. An optional field trip is planned for June 9, 2004, depending on attendee interest. Details will be announced at the conference.

ADDRESSES: The conference will be held at the University Park Holiday Inn, Fort Collins, Colorado. The field trip, if held, will be to the Pawnee National Grasslands and neighboring CRP fields, about 30 miles west of Fort Collins, Colorado. Transportation and directions for the field trip will be provided at the conference.

FOR FURTHER INFORMATION CONTACT: Alexander Barbarika, Natural Resources Analysis Group, Economic Policy and Analysis Group, Farm Service Agency, USDA, 1400 Independence Avenue, SW, STOP 0516, Washington, DC 20250-0516; telephone: (202) 720-7093; FAX (202) 690-2186; email: Alexander.Barbarika@usda.gov.

Persons with disabilities who require special accommodation to attend or participate in the conference should contact Laurie Montgomery, telephone: (202) 205-7832; email: laurie.montgomery@usda.gov, by May 31, 2004.

Conference Registration: Conference attendees may register in advance or at the conference. Registration is $250 per person if completed by May 21, 2004, and $275 after May 21, 2004. Because space will be limited, advance registration is recommended. Cost of the field trip, if held, will be $20 for bus transportation and lunch, for those registering early, and $35 for those registering for the field trip after May 21, 2004. Conference details, including registration, meeting agenda, and hotel accommodations are available on FSA's Web site at: http://www.fsa.usda.gov/pas/crpconf.asp or from Alexander Barbarika at (202) 720-7093; email: Alexander.Barbarika@usda.gov.

SUPPLEMENTARY INFORMATION: First established in 1985, the CRP is a voluntary program encouraging farmers to implement conservation practices on environmentally-sensitive agricultural land to reduce soil erosion, protect water quality and enhance wildlife habitat. About 35 million acres are currently enrolled. Over 16 million acres of CRP contracts expire in 2007 and over 6 million acres expire in 2008. Determining the future direction of the CRP is thus critical.

FSA Administrator James R. Little says “This conference provides an exciting opportunity for CRP experts to help shape the future of the Nation's largest conservation program. I'm quite pleased that we will be focusing on results and the need to use the best science and data available for policy development. Science-based understanding is crucial for effective CRP policy development.” Rigorous CRP analysis will inform producers, legislators, budget overseers, and other decision-makers on how best to manage the CRP to maximize agricultural and environmental benefits at minimum taxpayer cost.

Noted conservationist Aldo Leopold once wrote that the complexity of the land organism is the outstanding discovery of the twentieth century. Building on that theme, over 40 speakers drawn from academia, State and Federal agencies, and diverse interest groups will present expert insights into the CRP's known impacts, impacts still needing research and quantification, and how science can strongly inform future CRP policy.

Depending on attendee interest, FSA and USGS will host an optional field trip to the Pawnee National Grasslands and neighboring CRP fields, about 30 miles west of Fort Collins. The 190,000-acre grassland reserve provides a rare, sizeable example of native grass species.

Signed in Washington, DC on April 29, 2004.
James R. Little,
Administrator, Farm Service Agency.

[FR Doc. 04-10922 Filed 5-13-04; 8:45 am]

BILLING CODE 3410-05-P